DEPARTMENT OF ENERGY

Federal Energy Regulatory Commission

[Docket No. EL10-77-000]

City of Pella, Iowa, v. Midwest Independent Transmission System Operator, Inc., MidAmerican Energy Company, Inc.; Notice of Petition for Declaratory Order and Complaint

July 8, 2010,

Take notice that on July 2, 2010, pursuant to Rules 206 and 207 of the Rules and Practice and Procedure, 18 CFR 385.206 and 385.207, Order No. 888¹, and sections 205, 206, 211, 212 and 309 of the Federal Power Act, 16 U.S.C. 824(e), 824(j), 824(k), and 825(h), City of Pella, Iowa (Complainant) filed (1) a petition for declaratory order requesting that the Commission confirm that Complainant's 69 kV facilities connecting and integrating the transmission of the Complainant, MidAmerican Energy Company, Central Iowa Power Cooperative and ITC Midwest are “transmission lines” under Order No. 888, and (2) a formal complaint against Midwest Independent System Operator, Inc. and MidAmerican Energy Company, Inc. (Respondents) alleging that the Respondents have improperly denied certain of the Complainant's 69 kV facilities reclassification as transmission and corresponding compensation.

¹ Promoting Wholesale Competition Through Open Access Non-Discriminatory Transmission Services by Public Utilities; Recovery of Stranded Costs by Public Utilities and Transmitting Utilities, Order No. 888, FERC Stats. & Regs. ¶ 31,036 (1996), order on reh'g, Order No. 888-A, FERC Stats. & Regs. ¶ 31,048, order on reh'g, Order No. 888-B, 81 FERC ¶ 61,248 (1997), order on reh'g, Order No. 888-C, 82 FERC ¶ 61,046 (1998), aff'd in relevant part sub nom. Transmission Access Policy Study Group v. FERC, 225 F.3d 667 (D.C. Cir. 2000), aff'd sub nom. New York v. FERC, 535 U.S. 1 (2002).

The Complainant certifies that copies of the complaint were served on the contacts for the Respondents as listed on the Commission's list of Corporate Officials.

Any person desiring to intervene or to protest this filing must file in accordance with Rules 211 and 214 of the Commission's Rules of Practice and Procedure (18 CFR 385.211, 385.214). Protests will be considered by the Commission in determining the appropriate action to be taken, but will not serve to make protestants parties to the proceeding. Any person wishing to become a party must file a notice of intervention or motion to intervene, as appropriate. The Respondent's answer and all interventions, or protests must be filed on or before the comment date. The Respondent's answer, motions to intervene, and protests must be served on the Complainants.

The Commission encourages electronic submission of protests and interventions in lieu of paper using the “eFiling” link at http://www.ferc.gov. Persons unable to file electronically should submit an original and 14 copies of the protest or intervention to the Federal Energy Regulatory Commission, 888 First Street, NE., Washington, DC 20426.

This filing is accessible on-line at http://www.ferc.gov, using the “eLibrary” link and is available for review in the Commission's Public Reference Room in Washington, DC. There is an “eSubscription” link on the Web site that enables subscribers to receive e-mail notification when a document is added to a subscribed docket(s). For assistance with any FERC Online service, please e-mail FERCOnlineSupport@ferc.gov, or call (866) 208-3676 (toll free). For TTY, call (202) 502-8659.

Comment Date: 5 pm Eastern Time on August 2, 2010.

Kimberly D. Bose,
Secretary.

[FR Doc. 2010-17161 Filed 7-13-10; 8:45 am]

BILLING CODE 6717-01-P